DEPARTMENT OF ENERGY

Federal Energy Regulatory Commission

[Docket No. CP04-411-000, Corps Application # CENAP-OP-R-200500146; Docket No. CP04-416-000, Corps Application # CENAP-OP-R-200500145]

U.S. Army Corps of Engineers, Philadelphia District, Crown Landing, L.L.C., Texas Eastern Transmission, L.P.; Notice of Availability of the Draft Environmental Impact Statement, the Scheduling of Joint Public Hearings and the Submission of Two Department of the Army Permit Applications to the U.S. Army Corps of Engineers for the Proposed Crown Landing LNG and Logan Lateral Projects in Gloucester County, NJ, New Castle County, DE and Delaware County, PA

February 18, 2005.

The staff of the Federal Energy Regulatory Commission (FERC or Commission) in cooperation with the U.S. Army Corps of Engineers (COE), U.S. Coast Guard, U.S. Fish and Wildlife Service, U.S. Environmental Protection Agency, and the National Oceanic and Atmospheric Administration Fisheries has prepared a draft Environmental Impact Statement (EIS) for a liquefied natural gas (LNG) import terminal (referred to as the Crown Landing LNG Project) proposed by Crown Landing, L.L.C. (Crown Landing), a BP Energy Company (BP) affiliate, and natural gas pipeline facilities (referred to as the Logan Lateral Project) proposed by Texas Eastern Transmission, L.P. (Texas Eastern) in the above-referenced dockets.

This is a joint public notice by the FERC and COE to advertise:

• The availability of the draft EIS;

• The scheduling of joint public meetings/hearings on March 29, 30, and 31, 2005; and

• The submission of two Department of the Army permit applications (CENAP-OP-R-200500145 and CENAP-OP-R-200500146) to the COE for the Crown Landing LNG and Logan Lateral Projects in Gloucester County, New Jersey, New Castle County, Delaware and Delaware County, Pennsylvania.

The draft EIS has been prepared to satisfy the requirements of the National Environmental Policy Act (NEPA). The FERC concludes that if the project is constructed and operated in accordance with Crown Landing's and Texas Eastern's proposed mitigation and our recommended mitigation measures, the proposed facilities would have limited adverse environmental impact. The draft EIS identifies and evaluates the preferred alternative proposal and other alternatives, including system alternatives, alternative sites for the LNG import terminal, and pipeline alternatives, and requests comments on them.

The proposed LNG terminal would be located on the shoreline of the Delaware River in Logan Township, Gloucester County, New Jersey, and would consist of facilities capable of unloading LNG ships, storing up to 450,000 cubic meters (m3) of LNG (9.2 billion cubic feet of natural gas equivalent), vaporizing the LNG, and sending out natural gas at a baseload rate of 1.2 billion cubic feet per day (Bcfd) and a maximum rate of 1.4 Bcfd (using spare equipment). Crown Landing proposes to interconnect the LNG facilities onsite with three pipelines. One interconnect would be with the new pipeline that Texas Eastern proposes to construct and operate (i.e., Logan Lateral) between its existing Chester Junction facility in Brookhaven Borough, Pennsylvania and the proposed LNG terminal. The other two interconnects would be with existing pipelines that currently cross the LNG terminal site. One of these pipelines is owned and operated by Columbia Gas Transmission Company (Columbia Gas). The other pipeline is owned and operated by Transcontinental Gas Pipe Line Corporation (Transco). To date, neither Columbia Gas nor Transco have filed applications with the FERC to construct and operate the interconnects. The Crown Landing LNG Project would have a maximum delivery capacity of 0.5 Bcfd to the Columbia Gas pipeline system, 0.6 Bcfd to the Transco pipeline system, and 0.9 Bcfd to the Texas Eastern pipeline system.

The proposed preferred project construction site, referenced above, is approximately 175 acres in size (waterward of the low water line on the Delaware River). Within the site there are uplands, wetlands (federally regulated) and intertidal river shoreline (also federally regulated). Construction of the proposed LNG terminal (Crown Landing) would involve the dredging of shallow water riverbottom and the filling of a small area of intertidal river shoreline for the installation of berthing structures in the Delaware River. No permanent filling of federally regulated wetlands is proposed for construction of the terminal facilities. The proposed new pipeline (Texas Eastern) connection would involve the installation of about 11.00 miles of new underground pipeline from the storage and transfer facility in Gloucester County, New Jersey, crossing Birch Creek, Raccoon Creek, the Delaware River, Chester Creek and several smaller waterways on both sides of the Delaware River, to an existing pipeline junction facility in Pennsylvania.

The Birch Creek, Raccoon Creek, Delaware River, and Chester Creek crossings would all be accomplished by Horizontal Directional Drilling (HDD) method. All smaller waterway crossings would be accomplished by open-cut trenching. The rigging for the HDD crossing of the Delaware River would be set-up on the Pennsylvania bank of the river in Chester. The pipeline would be “pulled under” the river from the old Ferry Road roadbed on the New Jersey side.

The draft EIS addresses the potential environmental effects of the construction and operation of the following LNG and natural gas pipeline facilities:

• A ship unloading facility capable of receiving LNG ships with capacities up to 200,000 m³;

• Three 150,000 m³ (net capacity) full-containment LNG storage tanks, comprised of 9 percent nickel steel inner tank, pre-stressed concrete outer tank, and a concrete roof;

• A closed-loop shell and tube heat exchanger vaporization system;

• Various ancillary facilities, including administrative offices, warehouse/maintenance building, main control center, guardhouse, and a pier control room;

• Three meter and regulation stations located on the proposed LNG terminal site; and

• Approximately 11.00 miles of 30-inch-diameter natural gas pipeline (4.92 miles in Pennsylvania and 6.08 miles in New Jersey), a pig launcher and receiver facility at the beginning and end of the pipeline, a mainline valve, and a meter and regulation station at the end of the pipeline.

Crown Landing and Texas Eastern have applied, concurrently, to the COE for two Department of the Army Individual permits pursuant to Section 404 of the Clean Water Act (33 U.S.C. 1344) and Section 10 of the Rivers and Harbors Act of 1899 (33 U.S.C. 403) for the proposed structures in and under navigable waters and the discharge of dredged, excavated, and/or fill material into waters of the United States, including wetlands to construct the preferred alternative identified in the draft EIS. The decision whether to issue the permits will be based on an evaluation of the probable impacts, including cumulative impacts, of the proposed projects on the public interest. The decision will reflect the national concern for the protection and utilization of important resources. The benefits, which would be reasonably expected to accrue from the proposed projects, must be balanced against its reasonably foreseeable detriments. All factors, which may be relevant to the proposed work, will be considered, including the cumulative effect thereof; among those are conservation, economics, aesthetics, general environmental concerns, wetlands, cultural values, fish and wildlife values, flood hazards, floodplain values, land use, navigation, shore erosion and accretion, recreation, water supply, and consideration of property ownership, and in general, the needs and welfare of the people. Department of the Army permit(s) will be granted by the COE unless it is determined that the proposed work would be contrary to the public interest.

Joint FERC Public Meetings/COE Public Hearings will be held to provide interested individuals with the opportunity to testify about the effects of the projects, including their social, economic and environmental effects. These meetings/hearings provide the opportunity to present views, opinions, and information that will be considered by the FERC and COE in evaluating the proposed projects.

Comment Procedures and Public Meetings

Any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St. NE., Room 1A, Washington, DC 20426;

• Reference Docket No. CP04-411-000, et al.;

• Label one copy of your comments for the attention of Gas Branch 1, PJ-11.1; and

• Mail your comments so that they will be received in Washington, DC on or before April 18, 2005.

Please note that the Commission strongly encourages electronic filing of any comments or interventions to this proceeding. See, 18 CFR 385.2001(a)(1)(iii) and the instructions on the Commission's Web site at http://www.ferc.gov under the “e-Filing” link and the link to the User's Guide. Prepare your submission in the same manner as you would if filing on paper and save it to a file on your hard drive. Before you can file comments you will need to create a free account, which can be created by clicking on “Login to File” and then “New User Account.”

In addition to or in lieu of sending written comments, we invite you to attend the public comment meetings we will conduct three meetings in the project area. The locations and times of these meetings are listed below.

March 29, 2005, 7 p.m. (EST), Holiday Inn, One Pureland Drive, Swedesboro, NJ 08085, (856) 467-3322;

March 30, 2005, 7 p.m. (EST), Crozer Community Hospital, 2600 West 9th St., Chester, PA 19013, (610) 494-0700;

March 31, 2005, 7 p.m. (EST), Holiday Inn, 630 Naamans Road, Claymont, DE 19703, (302) 791-4603.

Information regarding these meetings is also posted on the Commission's calendar located at http://www.ferc.gov/EventCalendar/EventsList.aspx along with other related information. Interested groups and individuals are encouraged to attend and present oral comments on the draft EIS. Transcripts of the meetings will be prepared.

After these comments are reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street NE., Room 2A, Washington, DC 20426, (202) 502-8371.

A limited number of copies are available from the FERC Public Reference Room identified above. In addition, copies of the draft EIS have been mailed to federal, state, and local agencies; public interest groups; individuals and affected landowners who requested a copy of the draft EIS; libraries; newspapers; and parties to this proceeding.

The draft EIS is also available for review and inspection (not for distribution) at the locations listed below: Gloucester County Library, 415 Swedesboro Road, Gibbstown, NJ 08027;

Gloucester County Library, 101 Beckett Road, Logan Township, NJ 08085;

J. Lewis Crozier Library, 620 Engle Street, Chester, PA 19013;

Aston Public Library, 3720 Concord Road, Aston, PA 19014;

Brandywine Hundred Branch of the New Castle County Library, 1300 Foulk Road, Wilmington, DE 19803;

U.S. Army Corps of Engineers, Regulatory Branch, John Wanamaker Building, 100 Penn Square East, Philadelphia, PA 19107, (215) 656-5940.

Additional information about the project is available from the Commission's Office of External Affairs, at 1-866-208-FERC or on the FERC Internet Web site (http://www.ferc.gov) using the eLibrary link. The draft EIS can be accessed on this Web site. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the FERC, such as orders, notices, and rulemakings.

In addition, the FERC now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E5-783 Filed 2-24-05; 8:45 am]

BILLING CODE 6717-01-P